DEPARTMENT OF JUSTICE

[CPCLO Order No. 007-2024

Privacy Act of 1974; System of Records

AGENCY: Office of Justice Programs, United States Department of Justice.

ACTION: Notice of a new system of records.

SUMMARY: Pursuant to the Privacy Act of 1974, Office of Management and Budget (OMB) Circular No. A-108, and Federal law, notice is hereby given that the DOJ's Office of Justice Programs (OJP) proposes a new system of records notice titled the Peer Review Management System (PRMS), JUSTICE/OJP-020. The DOJ uses the PRMS, a web-based tool, to manage the planning, selection, and assignment of peer reviewers as part of the merit review of DOJ's funding opportunities.

DATES: In accordance with 5 U.S.C. 552a(e)(4) and (11), this system of records is effective upon publication, subject to a 30-day period in which to comment on the routine uses described below. Please submit any comments by December 27, 2024.

ADDRESSES: The public, OMB, and Congress are invited to submit any comments by mail to the United States Department of Justice, Office of Privacy and Civil Liberties, ATTN: Privacy Analyst, 145 N St. NE, Suite 8W, Washington, DC 20002; by facsimile at 202-307-0693; or by email at privacy.compliance@usdoj.gov. To ensure proper handling, please reference the above CPCLO Order No. on your correspondence.

FOR FURTHER INFORMATION CONTACT: Bryce Mitchell, Division Director; Enterprise Application Development Division, Office of the Chief Information Officer, Office of Justice Programs; 999 North Capitol Street NE, Washington, DC 20002, Bryce.Mitchell@usdoj.gov, (202) 598-9418.

Jennifer Tyson, Deputy Director, Grants Management Division, Audit, Assessment, and Management, Office of Justice Programs; 999 North Capitol Street NE, Washington, DC 20002, Jennifer.Tyson@usdoj.gov, (202) 307-0750.

SUPPLEMENTARY INFORMATION:

Potential peer reviewers, who may be members of the public or Federal Government personnel, use the PRMS online tool to enter their records via enrollment applications (i.e., profiles) to be considered for peer review assignments. Authorized DOJ users (i.e. DOJ program office and contract staff) can search these profiles to nominate and invite a peer reviewer to review and score DOJ funding opportunity applications. Authorized users (i.e., those members of the public or Federal Government personnel invited by a DOJ program office staff to serve as peer reviewer) may log into PRMS to review their profiles and obtain access to assigned peer review tasks.

In accordance with 5 U.S.C. 552a(r), the DOJ has provided a report to OMB and Congress on this new system of records.

Dated: November 19, 2024
Peter A. Winn,
Acting Chief Privacy and Civil Liberties Officer, United States Department of Justice.

JUSTICE/OJP—020

SYSTEM NAME AND NUMBER: \

Peer Review Management System (PRMS), JUSTICE/OJP—020

SECURITY CLASSIFICATION:

The system is unclassified.

SYSTEM LOCATION:

Records in this system are maintained at the following locations: Office of Justice Programs (OJP); 999 North Capitol Street NE, Washington, DC 20002; and cloud service providers at AWS GovCloud; 1200 12th Avenue; South Seattle, WA 98144. The cloud computing service providers and their location may change from time to time, and this document may not reflect the most current information available. To confirm information about the current cloud computing service provider, please contact OJP through the OJP service desk at email address OJP.ITservicedesk@ojp.usdoj.gov.

SYSTEM MANAGER(S):

Bryce Mitchell, Division Director, Enterprise Application Development Division, Office of the Chief Information Officer, Office of Justice Programs, 999 North Capitol Street NE, Washington, DC 20002, Bryce.Mitchell@usdoj.gov, (202) 514-2412.

AUTHORITY FOR MAINTENANCE OF THE SYSTEM:

28 U.S.C. 530C, Authority to use available funds; 34 U.S.C. 10226(b), Personnel and Administrative Authority

PURPOSE(S) OF THE SYSTEM:

The Peer Review Management System (PRMS) supports DOJ's overall grantmaking and research efforts toward fair, equitable, and objective funding decisions by providing a centralized directory for DOJ staff to obtain peer reviewers. DOJ peer reviewers consist of Federal Government staff or members of the public, who offer their expertise in merit reviewing and scoring OJP funding opportunities. The system achieves this purpose through its two main components, the Peer Reviewer Database (PRD) and the Peer Review Support System (PRSS).

The PRD maintains and disseminates records of peer reviewers and potential peer reviewers, including their electronic enrollment information. This component collects records about potential peer reviewers who voluntarily complete a multi-step online application process to be assigned peer review as needed by DOJ. The PRD allows authorized DOJ users (DOJ program and contractor staff) to nominate and invite a potential peer reviewer for a peer review assignment. Authorized DOJ users can also review and evaluate work performed once a peer reviewer completes an assignment.

The PRSS maintains details of the peer review process necessary for authorized DOJ users to manage the peer review process, including application review criteria from funding opportunities, application data, and peer reviewer assignments. The PRSS also converts raw peer review scores into normalized scores or tiers, which are uploaded into OJP's grants management system for programmatic review.

CATEGORIES OF INDIVIDUALS COVERED BY THE SYSTEM:

Individuals applying to serve as peer reviewers and individuals selected by DOJ to serve as peer reviewers (including members of the public or Federal Government personnel); and DOJ personnel and DOJ contractors who have access to the system as permitted and authorized by the DOJ.

CATEGORIES OF RECORDS IN THE SYSTEM:

Records in the PRMS include an individual's name, mailing address, personal email address, telephone number, work-related information (e.g., current occupation, job title, work address, email address, work address, and work history), areas of expertise, and information on any relevant lived justice-involved experience. In addition, information regarding potential peer reviewers' education level, race, cultural or ethnic identity, education, sex or gender identity, Tribal affiliation, and former incarceration (as self-reported by the potential peer reviewers) may be provided.

RECORD SOURCE CATEGORIES:

The records in the system may obtained from, among other sources, individuals applying to serve as peer reviewers, individuals selected by DOJ to serve as peer reviewers, and OJP's grants management system, which provides grant application data.

ROUTINE USES OF RECORDS MAINTAINED IN THE SYSTEM, INCLUDING CATEGORIES OF USERS AND THE PURPOSES OF SUCH USES:

In addition to those disclosures generally permitted under 5 U.S.C. 552a(b), all or a portion of the records contained in this system of records may be disclosed as a routine use pursuant to 5 U.S.C. 552a(b)(3) under the circumstances or for the purposes described below, to the extent such disclosures are compatible with the purposes for which the information was collected:

1. Where a record, either alone or in conjunction with other information, may be relevant to investigating a violation or potential violation of law—criminal, civil, or regulatory in nature—the relevant records may be referred to the appropriate Federal, State, local, territorial, Tribal, or foreign law enforcement authority or other appropriate entity charged with the responsibility for investigating or prosecuting such violation or charged with enforcing or implementing such law.

2. To appropriate officials and employees of a Federal agency or entity to the extent necessary for making decisions about peer review assignments, such as but not limited to knowledge and skills needed to evaluate DOJ funding opportunities.

3. To any person or entity that the DOJ has reason to believe possesses knowledge regarding matters pertaining to DOJ programs and activities, to the extent deemed to be necessary by the DOJ to elicit information about the potential peer reviewer for use in conferring the DOJ peer reviewer assignments.

4. To any person or entity that the DOJ has reason to believe possesses information regarding a matter within the jurisdiction of the DOJ, to the extent deemed to be necessary by the DOJ to elicit such information or cooperation from the recipient for use in the performance of an authorized activity.

5. In an appropriate proceeding before a court, grand jury, or administrative or adjudicative body, when the DOJ determines that the records are arguably relevant to the proceeding; or in an appropriate proceeding before an administrative or adjudicative body when the adjudicator determines the records to be relevant to the proceeding.

6. To the news media and the public, including but not limited to disclosures pursuant to 28 CFR 50.2, unless it is determined that release of the specific information in the context of a particular case or matter would constitute an unwarranted invasion of personal privacy. While disclosures under 28 CFR 50.2 are in connection with a civil or criminal proceeding, disclosures under this routine use may also pertain to administrative proceedings as well as investigations of Federal employee misconduct prejudicial to the interests of members of the public.

7. To contractors, recipients, experts, consultants, students, and others performing or working on a contract, service, grant, cooperative agreement, or other assignment for the Federal Government, when necessary to accomplish an agency function related to this system of records.

8. To a former employee of the DOJ for official purposes where the DOJ requires information and/or consultation assistance from the former employee regarding a matter within that person's former area of responsibility.

9. To a Member of Congress or staff acting upon the Member's behalf when the Member or staff requests the information on behalf of, and at the request of, the individual who is the subject of the record.

10. To the National Archives and Records Administration for purposes of records management inspections conducted under the authority of 44 U.S.C. 2904 and 2906.

11. To appropriate agencies, entities, and persons when (1) the DOJ suspects or has confirmed that there has been a breach of the system of records; (2) the DOJ has determined that as a result of the suspected or confirmed breach there is a risk of harm to individuals, the DOJ (including its information systems, programs, and operations), the Federal Government, or national security; and (3) the disclosure made to such agencies, entities, and persons is reasonably necessary to assist in connection with the DOJ's efforts to respond to the suspected or confirmed breach or to prevent, minimize, or remedy such harm.

12. To another Federal agency or Federal entity, when the DOJ determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

13. To any agency, organization, or individual for the purpose of performing authorized audit or oversight operations of DOJ and meeting related reporting requirements.

14. To such recipients and under such circumstances and procedures as are mandated by Federal statute or treaty.

POLICIES AND PRACTICES FOR STORAGE OF RECORDS:

Records in the PRMS are stored in electronic format in the OJP cloud platforms. Records are stored securely in accordance with applicable Federal laws, regulations, Department directives, and guidance.

POLICIES AND PRACTICES FOR RETRIEVAL OF RECORDS:

Records can be retrieved within PRMS by a peer reviewer's personal identifier to obtain profiles or other data matching the search criteria necessary for the merit review of DOJ funding opportunities.

The records are retrievable by the peer reviewer's name, employee type (other Federal agency or other), education level, job category, race, cultural and ethnic identities, subject matter expertise, research expertise, business organization, organization unit, job title, phone number (home and business), address (home and business), and gender and sexual identities. The records are searchable and retrievable using those identifiers for diversifying the pool of reviewers needed to meet the objectives conducive to a full and fair evaluation of the relevant OJP funding opportunities.

POLICIES AND PRACTICES FOR RETENTION AND DISPOSAL OF RECORDS:

Records in this system are stored in electronic format and retained as well as disposed of in accordance with the National Archives and Records Administration, General Records Schedule 1.2, which covers grant and cooperative agreement records.

ADMINISTRATIVE, TECHNICAL, AND PHYSICAL SAFEGUARDS:

This system meets all DOJ requirements for authorization to operate per DOJ Order 0904, Cybersecurity Program. Specifically, information in this system is maintained in accordance with applicable laws, rules, and policies on protecting individual privacy.

The system leverages cloud service providers that maintain an authority to operate in accordance with applicable laws, rules, and policies, including Federal Risk and Authorization Management Program (FedRAMP) requirements.

Backup information is maintained in accordance with a government contract that requires adherence to applicable laws, rules, and policies. Internet connections are protected by multiple firewalls. Security personnel conduct periodic vulnerability scans using DOJ-approved software to ensure security compliance and security logs are enabled for all computers to assist in troubleshooting and forensics analysis during incident investigations. Users of individual computers can only gain access to the data by a valid user's identification and authentication.

RECORD ACCESS PROCEDURES:

All requests for access to records must be in writing and should be addressed to the relevant component:

OJP FOIA Officer; Office of Justice Programs; Office of the General Counsel; 999 North Capitol Street NE, Washington, DC 20002.

The envelope and letter should be clearly marked “Privacy Act Access Request.” The request must describe the records sought in sufficient detail to enable DOJ personnel to locate them with a reasonable amount of effort. The request must include a general description of the records sought and must include the requester's full name, current address, and date and place of birth. The request must be signed and either notarized or submitted under penalty of perjury. Although no specific form is required, you may obtain forms for this purpose from the FOIA/Privacy Act Mail Referral Unit, United States Department of Justice, 950 Pennsylvania Avenue NW, Washington, DC 20530, or on the Department of Justice website at https://www.justice.gov/oip/oip-request.html.

More information regarding the DOJ's procedures for accessing records in accordance with the Privacy Act can be found at 28 CFR part 16 Subpart D, “Protection of Privacy and Access to Individual Records Under the Privacy Act of 1974.”

CONTESTING RECORD PROCEDURES:

Individuals seeking to contest or amend records pertaining to them, maintained in this system of records, must direct their requests to the address indicated in the “RECORD ACCESS PROCEDURES” paragraph, above. All requests to contest or amend records must be in writing and the envelope and letter should be clearly marked “Privacy Act Amendment Request.” All requests must state clearly and concisely what record is being contested, the reasons for contesting it, and the proposed amendment to the record.

More information regarding the DOJ's procedures for amending or contesting records in accordance with the Privacy Act can be found at 28 CFR 16.46, “Requests for Amendment or Correction of Records.”

NOTIFICATION PROCEDURES:

Individuals may request to be notified if a record in this system of records pertains to them by utilizing the same procedures as those identified in the “RECORD ACCESS PROCEDURES” paragraph, above.

EXEMPTIONS PROMULGATED FOR THE SYSTEM:

None.

HISTORY:

None.

[FR Doc. 2024-27570 Filed 11-26-24; 8:45 am]

BILLING CODE 4410-18-P